NATIONAL TRANSPORTATION SAFETY BOARD

Proposed Information Collection Activity: Submission for Office of Management and Budget (OMB) Review; Comment Request

AGENCY: National Transportation Safety Board (NTSB).

ACTION: Notice.

SUMMARY: The NTSB is announcing an opportunity for public comment on the proposed collection of voluntary feedback regarding the public NTSB Web site. Under the Paperwork Reduction Act of 1995 (PRA), Federal agencies must publish notice in the Federal Register concerning each proposed collection of information and subsequently allow 60 days for public comment in response to each notice. This notice solicits comments concerning the NTSB's proposed collection of information and feedback, via a voluntary survey available on the NTSB Web site, concerning the navigation, utility, and site design of the NTSB Web site.

DATES: Submit written comments regarding this proposed collection of information by February 11, 2008.

ADDRESSES: Respondents may submit written comments on the collection of information to the Office of Information and Regulatory Affairs of the Office of Management and Budget, Attention: Desk Officer for the National Transportation Safety Board, Washington, DC 20503.

FOR FURTHER INFORMATION CONTACT: Christine Fortin, NTSB, Office of Chief Information Officer, at (202) 314-6607.

SUPPLEMENTARY INFORMATION: Under the PRA of 1995 (Pub. L. 104-13, codified at 44 United States Code (U.S.C.) 3501-3521), Federal agencies must obtain approval from OMB for each collection of information they conduct or sponsor. This request for comment is being made pursuant to section 3506(c)(2)(A) of the PRA. Interested persons are invited to send comments regarding this burden estimate or any other aspect of this collection of information, including any of the following subjects: (1) The necessity and utility of the proposed information collection for the proper performance of the NTSB's function; (2) the accuracy of the estimated burden; (3) ways to enhance the quality, utility, and clarity of the information to be collected; and (4) the use of automated collection techniques or other forms of information technology to minimize the information collection burden.

The NTSB Online Customer Satisfaction Survey will seek the public's feedback regarding a variety of aspects of the current NTSB Web site. In particular, the survey will solicit feedback concerning the public's satisfaction with the content of information on the Web site, as well as the presentation and organization of information that is available on the NTSB Web site. The survey will also ask the public for opinions regarding the overall utility of certain categories of the existing Web site. The survey will also seek responses to questions concerning ways to improve the Web site, such as whether the public would find it helpful to include certain information. In addition, the survey will ask for general comments regarding ways the NTSB can improve its Web site. Finally, the survey will inquire into whether respondents are affiliated with a particular group, industry, or profession, and how often respondents visit the NTSB Web site. All responses to the survey will remain anonymous, and the introductory text of the survey will request that respondents refrain from including any identifying or personal information.

The NTSB intends to use the feedback it obtains from this survey to improve the navigation, search capabilities, and information content on the NTSB Web site. The NTSB recognizes that Congress has directed the NTSB to provide transportation safety and accident-related information to the public, in the interest of improving transportation safety for the public. See 49 U.S.C. 1101-1155. Accordingly, the NTSB is aware of the importance of maintaining a Web site that is helpful to the public, and provides relevant, up-to-date information. Feedback from the public regarding the NTSB Web site will assist the NTSB in achieving this goal.

Respondents' participation in the survey is voluntary. The survey will only be available on the NTSB Web site, and the NTSB has carefully reviewed the survey to ensure that it has used plain, coherent, and unambiguous terminology in its requests for information and feedback. The survey is not duplicative of other agencies' collections of information. The survey will consist of seven questions, and imposes minimal burden on respondents: The NTSB estimates that respondents will spend approximately 10 minutes in completing the survey. The NTSB estimates that approximately 100 respondents will participate in the survey.

Dated: December 5, 2007.
Vicky L. D'Onofrio,
Federal Register Liaison Officer.

[FR Doc. 07-6001 Filed 12-10-07; 8:45 am]

BILLING CODE 7533-01-M